FEDERAL COMMUNICATIONS COMMISSION

47 CFR Part 73

[DA 22-889; MB Docket No. 22-188; RM-11928; FR ID 102758]

Radio Broadcasting Services; Big Coppitt Key, Florida

AGENCY: Federal Communications Commission.

ACTION: Final rule.

SUMMARY: This document amends the FM Table of Allotments, of the Commission's rules, by adding Channel 265C3 at Big Coppitt Key, Florida. Channel 265C3 would provide a first local service at Big Coppitt Key, Florida. A staff engineering analysis indicates that Channel 265C3 can be allotted to Big Coppitt Key, Florida, consistent with the minimum distance separation requirements of the Commission's rules, with a site restriction of 14.5 km (9.0 miles) northeast of the community. The reference coordinates are 24-39-34 NL and 81-32-17 WL.

DATES: Effective October 11, 2022.

FOR FURTHER INFORMATION CONTACT: Rolanda F. Smith, Media Bureau, (202) 418-2700.

SUPPLEMENTARY INFORMATION: This is a synopsis of the Federal Communications Commission's (Commission) Report and Order, adopted August 25, 2022 and released August 26, 2022. The full text of this Commission decision is available online at https://apps.fcc.gov/ecfs/. This document does not contain information collection requirements subject to the Paperwork Reduction Act of 1995, Public Law 104-13. The Commission will send a copy of the Report and Order in a report to be sent to Congress and the Government Accountability Office pursuant to the Congressional Review Act, see U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Florida by adding in alphabetical order an entry for “Big Coppitt Key” to read as follows:

§ 73.202 Table of Allotments.

* * * * *

(b) * * *

Table 1 to Paragraph (b)
U.S. States | Channel No.
* * * * *
Florida
Big Coppitt Key | 265C3
* * * * *

[FR Doc. 2022-18989 Filed 9-1-22; 8:45 am]

BILLING CODE 6712-01-P